DEPARTMENT OF THE INTERIOR

Fish and Wildlife Service

50 CFR Part 17

[FWS-R7-ES-2008-0105; 92210-1117-0000-B4]

RIN 1018-AV92

Endangered and Threatened Wildlife and Plants; Designation of Critical Habitat for the Southwest Alaska Distinct Population Segment of the Northern Sea Otter (Enhydra lutris kenyoni)

AGENCY: Fish and Wildlife Service, Interior.

ACTION: Proposed rule; reopening of public comment period; notice of public hearing.

SUMMARY: We, the U.S. Fish and Wildlife Service (Service), announce the reopening of the public comment period on our proposal to designate critical habitat for the southwest Alaska Distinct Population Segment (DPS) of the northern sea otter (Enhydra lutris kenyoni) under the Endangered Species Act of 1973, as amended (Act). This action will provide all interested parties with an additional opportunity to submit written comments on our December 16, 2008, proposed rule to designate approximately 15,225 square kilometers (km²) (5,879 square miles (mi²)) as critical habitat.

DATES: We are reopening the comment period until July 1, 2009. For more information, see Public Comments Solicited section below.

ADDRESSES:

Public Comments: You may submit information by one of the following methods:

• Federal eRulemaking Portal: http://www.regulations.gov. Follow the instructions for submitting comments.

• U.S. mail or hand-delivery: Public Comments Processing, Attn: FWS-R7-ES-2008-0105; Division of Policy and Directives Management; U.S. Fish and Wildlife Service; 4401 N. Fairfax Drive, Suite 222; Arlington, VA 22203.

Public Hearing: We will hold one public hearing on June 18, 2009, at the Z.J. Loussac Library in Anchorage, Alaska. There will be an informational meeting with a questions and answer session from 7 p.m. to 7:30 p.m. and we will accept public comments verbally from 7:30 p.m. to 9:30 p.m. In addition to having the opportunity to provide oral comments in person, telephone access will be provided for this hearing. Contact the Marine Mammals Management Office (see FOR FURTHER INFORMATION CONTACT) for more information about this public hearing.

We will post all information received on http://www.regulations.gov. This generally means that we will post any personal information you provide us (see the Public Comments Solicited section below for more details).

FOR FURTHER INFORMATION CONTACT: Douglas M. Burn, Marine Mammals Management Office, U.S. Fish and Wildlife Service, 1011 East Tudor Road, Anchorage, AK 99503; telephone 907/786-3800; facsimile 907/786-3816. If you use a telecommunications device for the deaf (TDD), call the Federal Information Relay Service (FIRS) at 800-877-8339.

SUPPLEMENTARY INFORMATION:

Background

On December 16, 2008, we published a proposed rule to designate approximately 15,225 square kilometers (km²) (5,879 square miles (mi²)) as critical habitat for the southwest Alaska DPS of the northern sea otter (73 FR 76454). We accepted public comments on this proposed rule for 60 days, ending on February 17, 2009. During that period, we received 15 submissions from various individuals, communities, and organizations. Recognizing that the original public comment period partially overlapped with the holiday season, we are reopening the public comment period to provide additional time for concerned individuals to provide input on the proposed designation.

We intend that any final action resulting from this proposal will be as accurate and as effective as possible. Therefore, we request comments or suggestions on this proposed rule. We particularly seek comments concerning:

(1) The reasons why we should or should not designate habitat as “critical habitat” under section 4 of the Act (16 U.S.C. 1531 et seq.), including whether there are threats to the species from human activity, the degree of which can be expected to increase due to the designation, and whether the benefit of designation would outweigh threats to the species caused by the designation, such that the designation of critical habitat is prudent.

(2) Specific information on:

• The amount and distribution of habitat of the southwest Alaska DPS of the northern sea otter,

• What areas occupied at the time of listing and that contain features essential for the conservation of the species we should include in the designation and why, and

• What areas not occupied at the time of listing are essential to the conservation of the species and why.

(3) Land use designations and current or planned activities in the subject areas and their possible impacts on proposed critical habitat.

(4) Any foreseeable economic, national security, or other potential impacts resulting from the proposed designation and, in particular, any impacts on small entities, and the benefits of including or excluding areas that exhibit these impacts.

(5) Any areas that might be appropriate for exclusion from the final designation under section 4(b)(2) of the Act.

(6) Special management considerations or protections that the proposed critical habitat may require.

(7) Whether we could improve or modify our approach to designating critical habitat in any way to provide for greater public participation and understanding, or to better accommodate public concerns and comments.

We are also in the process of preparing a draft Economic Analysis of the proposed critical habitat designation, which will be made available for public review and comment. We will publish a separate Notice of Availability for the draft Economic Analysis.

Public Comments Solicited

We will accept written comments and information we receive on or before July 1, 2009. You may submit comments and materials concerning the proposed rule by one of the methods listed in the ADDRESSES section.

If you submit a comment via http://www.regulations.gov, your entire comment—including your personal identifying information—will be posted on the Web site. If your submission is made via a hardcopy that includes personal identifying information, you may request at the top of your document that we withhold this information from public review. However, we cannot guarantee that we will be able to do so. We will post all hardcopy comments on http://www.regulations.gov. Comments previously submitted on the December 16, 2008 proposed rule (73 FR 76454) need not be resubmitted, as they have been incorporated into the public record and will be fully considered in preparation of the final rule. Comments submitted during this reopened comment period also will be incorporated into the public record and will be fully considered in the final rule.

Comments and materials we receive, as well as supporting documentation we used in preparing this notice, will be available for public inspection on http://www.regulations.gov, or by appointment, during normal business hours, at the U.S. Fish and Wildlife Service, Marine Mammals Management Office (see FOR FURTHER INFORMATION CONTACT).

You may obtain copies of the proposed rule on the Internet at http://www.regulations.gov, or by mail from the Marine Mammals Management Office in Anchorage, Alaska.

Author

The primary author of this package is the Marine Mammals Management Office, U.S. Fish and Wildlife Service, 1011 East Tudor Road, Anchorage, AK 99503.

Authority

The authority for this action is the Endangered Species Act of 1973 (16 U.S.C. 1531 et seq.).

Dated: April 29, 2009.
Will Shafroth,
Deputy Assistant Secretary for Fish and Wildlife and Parks.

[FR Doc. E9-10715 Filed 5-7-09; 8:45 am]

BILLING CODE 4310-55-P